DEPARTMENT OF LABOR

Employment and Training Administration

Notice of a Change in Status of the Extended Benefit (EB) Program for California, District of Columbia, Georgia, Illinois, Louisiana, Massachusetts, Nevada, North Carolina, Ohio, Oregon, and Rhode Island

AGENCY: Employment and Training Administration, Labor.

ACTION: Notice.

This notice announces changes in benefit period eligibility under the EB program that have occurred since the publication of the last notice regarding the States' EB status:

• Michigan has completed the mandatory 13-week “on” period stipulated by 20 CFR 615.11, and no longer meets the 8.0% threshold necessary to remain “on” a high unemployment period in EB. As such, effective February 7, 2021, the maximum potential entitlement for claimants in Michigan in the EB program decreased from 20 weeks to 13 weeks.

• Based on the data released by the Bureau of Labor Statistics on January 26, 2021:

○ The seasonally-adjusted TUR for Rhode Island fell below the 8.0% threshold necessary to remain “on” a high unemployment period in EB, and starting February 21, 2021, the maximum potential entitlement for claimants in this state in the EB program will decrease from 20 weeks to 13 weeks, and

○ the seasonally-adjusted TUR for North Carolina and Oregon fell below the 6.5% threshold necessary to remain “on” in EB. The payable period in EB for both of these states ended on February 20, 2021.

• Based on the data submitted by Louisiana for the week ending January 2, 2021, Louisiana's 13-week insured unemployment rate (IUR) was 4.86 percent, falling below the 5.0 percent IUR threshold necessary to remain “on” EB. Therefore, the EB period for Louisiana ended on January 23, 2021. The state will remain in an “off” period for a minimum of 13 weeks.

• Based on the data submitted by Georgia for the week ending January 16, 2021, Georgia's 13-week insured unemployment rate (IUR) was 4.76 percent, falling below the 5.0 percent IUR threshold necessary to remain “on” EB. Therefore, the EB period for Georgia ended on February 6, 2021. The state will remain in an “off” period for a minimum of 13 weeks.

• In addition, language in state laws of California, District of Columbia, Illinois, Massachusetts, Nevada and Ohio which conditioned the applicability of total unemployment rate (TUR) trigger on full Federal funding resulted in an “off” indicator for the week ending December 5, 2020 and the end of any payable period associated with the TUR trigger on December 26, 2020. As such, California, District of Columbia, Illinois, Massachusetts, and Nevada, ended their high unemployment period in EB on December 26, 2020, therefore these states EB program will decrease from 20 weeks to 13 weeks and Ohio triggered “off” EB on December 26, 2020.

The trigger notice covering state eligibility for the EB program can be found at: http://ows.doleta.gov/unemploy/claims_arch.as.

Information for Claimants

The duration of benefits payable in the EB program, and the terms and conditions on which they are payable, are governed by the Federal-State Extended Unemployment Compensation Act of 1970, as amended, and the operating instructions issued to the states by the U.S. Department of Labor. In the case of a state beginning an EB period, the State Workforce Agency will furnish a written notice of potential entitlement to each individual who has exhausted all rights to regular benefits and is potentially eligible for EB (20 CFR 615.13 (c) (1)).

Persons who believe they may be entitled to EB, or who wish to inquire about their rights under the program, should contact their State Workforce Agency.

FOR FURTHER INFORMATION CONTACT: U.S. Department of Labor, Employment and Training Administration, Office of Unemployment Insurance Room S-4524, Attn: Thomas Stengle, 200 Constitution Avenue NW, Washington, DC 20210, telephone number (202) 693-2991 (this is not a toll-free number) or by email: Stengle.Thomas@dol.gov.

Signed in Washington, DC.
Suzan G. LeVine,
Principal Deputy Assistant Secretary for Employment and Training.

[FR Doc. 2021-06385 Filed 3-26-21; 8:45 am]

BILLING CODE 4510-FW-P